DEPARTMENT OF TRANSPORTATION

Federal Aviation Administration

Office of Commercial Space Transportation; Notice of Availability and Request for Comment on the Draft Environmental Assessment (EA) for the Midland International Air and Space Port, City of Midland, Midland County, Texas

AGENCY: Federal Aviation Administration (FAA), DOT.

ACTIONS: Notice of Availability, Notice of Public Comment Period, Notice of Public Meeting, and Request for Comment.

SUMMARY: In accordance with the National Environmental Policy Act of 1969, as amended (NEPA; 42 U.S.C. 4321, et seq.), Council on Environmental Quality NEPA implementing regulations (40 CFR Parts 1500-1508), and FAA Order 1050.1E, Environmental Impacts: Policies and Procedures, Change 1, the FAA is announcing the availability of and requesting comments on the Draft EA for the Midland International Air and Space Port, City of Midland, Midland County, Texas.

FOR FURTHER INFORMATION CONTACT: Mr. Daniel Czelusniak, Office of Commercial Space Transportation, Federal Aviation Administration, 800 Independence Avenue SW., Suite 325, Washington, DC 20591; telephone (202) 267-5924; email FAAMidlandEA@icfi.com.

SUPPLEMENTARY INFORMATION: The Draft EA was prepared to analyze the potential environmental impacts of the City of Midland's proposal to operate a commercial space launch site at the Midland International Airport (MAF) in Midland County, Texas and offer the site to XCOR Aerospace, Inc. (XCOR) for the operation of the Lynx horizontal take-off and horizontal landing reusable launch vehicle (RLV) and engine testing. To operate a commercial space launch site, the City of Midland must obtain a commercial space launch site operator license from the FAA. Under the Proposed Action addressed in the EA, the FAA would: (1) Issue a launch site operator license to the City of Midland for the operation of a commercial space launch site at MAF, (2) issue experimental permits and/or launch licenses to XCOR that would allow XCOR to conduct launches of the Lynx RLV from MAF, and (3) provide unconditional approval to modify the existing Airport Layout Plan (ALP) to reflect the designation of a launch site boundary, installation of aboveground propellant storage tanks, and construction of a concrete pad for engine testing. Proposed launch operations would begin in 2014 and continue through 2018. The frequency of launch operations would initially be one launch per week, eventually increasing to two launches per day, five days a week. Fifty-two annual launch operations are proposed in 2014. The total number of annual launch operations would increase each year until 2018 when 520 annual launch operations are proposed.

The Draft EA addresses the potential environmental impacts of implementing the Proposed Action and the No Action Alternative. Under the No Action Alternative, the FAA would not issue a launch site operator license to the City of Midland and thus would not issue experimental permits and/or launch licenses to XCOR for operation of the Lynx RLV at MAF. Also, there would be no need to update the ALP for MAF, and thus there would be no approval of a revised ALP. Existing commercial aviation and military operations would continue at MAF.

The impact categories considered in the Draft EA include air quality; compatible land use; Department of Transportation Act: Section 4(f); fish, wildlife, and plants; floodplains; hazardous materials, pollution prevention, and solid waste; historical, architectural, archaeological, and cultural resources; natural resources and energy supply; noise; socioeconomic impacts, environmental justice, and children's environmental health and safety risks; water quality; and wetlands. The Draft EA also considers the potential cumulative environmental impacts.

The FAA has posted the Draft EA on the FAA Web site at http://www.faa.gov/about/office_org/headquarters_offices/ast/environmental/nepa_docs/review/documents_progress/.

A paper copy of the Draft EA may be reviewed during regular business hours at the following libraries:

• Midland County Library, 301 West Missouri Avenue, Midland, TX 79701

• Ector County Library, 321 W. 5th Street, Odessa, TX 79761

• Reagan County Library, 300 Courthouse Square, Big Lake, TX 76932

The FAA will hold an open house public meeting to solicit comments from the public concerning the scope and content of the Draft EA.

• April 8, 2014, 5:30 p.m. to 8:30 p.m., The University of Texas of the Permian Basin, Center for Energy & Economic Diversification (CEED), Foyer Room, 1400 N. FM 1788, Midland, TX 79707

The public will be able to speak to project representatives one-on-one and submit written comments or provide oral comments to a stenographer.

DATES: The FAA encourages all interested parties to provide comments concerning the scope and content of the Draft EA. To ensure that all comments can be addressed in the Final EA, comments on the draft must be received by the FAA no later than April 21, 2014. Reviewers should organize their comments to be meaningful and inform the FAA of their interests and concerns by quoting or providing specific references to the text of the Draft EA. Matters that could have been raised with specificity during the comment period on the Draft EA may not be considered if they are raised for the first time later in the decision process. This commenting procedure is intended to ensure that substantive comments and concerns are made available to the FAA in a timely manner so that the FAA has an opportunity to address them.

ADDRESSES: Please submit comments in writing to Mr. Daniel Czelusniak, Office of Commercial Space Transportation, Federal Aviation Administration, 800 Independence Avenue SW., Suite 325, Washington, DC 20591; or by email at FAAMidlandEA@icfi.com.

Issued in Washington, DC on: March 18, 2014.
Daniel Murray,
Manager, Space Transportation Development Division.

[FR Doc. 2014-06360 Filed 3-21-14; 8:45 am]

BILLING CODE 4910-13-P